DEPARTMENT OF TRANSPORTATION

Federal Aviation Administration

14 CFR Part 39

[Docket No. FAA-2005-20757; Directorate Identifier 2004-NM-192-AD; Amendment 39-14142; AD 2005-13-06]

RIN 2120-AA64

Airworthiness Directives; BAE Systems (Operations) Limited Model BAe 146 and Avro 146-RJ Airplanes

AGENCY: Federal Aviation Administration (FAA), Department of Transportation (DOT).

ACTION: Final rule.

SUMMARY: The FAA is adopting a new airworthiness directive (AD) for certain BAE Systems (Operations) Limited Model BAe 146 and Avro 146-RJ airplanes. This AD requires modifying the auxiliary power unit (APU) exhaust duct in the environmental control system (ECS) bay; installing new, improved insulation on this APU exhaust duct; and replacing the existing drain pipe with a new exhaust drain pipe blank. This AD is prompted by a determination that the temperature of the skin of the APU exhaust duct in the ECS bay is higher than the certificated maximum temperature for this area. We are issuing this AD to prevent the potential for ignition of fuel or hydraulic fluid, which could leak from pipes running through the ECS bay. Ignition of these flammable fluids could result in a fire in the ECS bay.

DATES: This AD becomes effective July 26, 2005.

The incorporation by reference of a certain publication listed in the AD is approved by the Director of the Federal Register as of July 26, 2005.

ADDRESSES: For service information identified in this AD, contact British Aerospace Regional Aircraft American Support, 13850 Mclearen Road, Herndon, Virginia 20171.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-20757; the directorate identifier for this docket is 2004-NM-192-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The FAA proposed to amend 14 CFR part 39 with an AD for certain BAE Systems (Operations) Limited Model BAe 146 and Avro 146-RJ airplanes. That action, published in the Federal Register on March 30, 2005 (70 FR 16185), proposed to require modifying the auxiliary power unit (APU) exhaust duct in the environmental control system bay; installing new, improved insulation on this APU exhaust duct; and replacing the existing drain pipe with a new exhaust drain pipe blank.

Explanation of Change to Applicability

We have revised the applicability of the proposed AD to identify model designations as published in the most recent type certificate data sheet for the affected models.

Comments

We provided the public the opportunity to participate in the development of this AD. No comments have been submitted on the proposed AD or on the determination of the cost to the public.

Conclusion

We have carefully reviewed the available data and determined that air safety and the public interest require adopting the AD with the change described previously. We have determined that this change will neither increase the economic burden on any operator nor increase the scope of the AD.

Costs of Compliance

This AD will affect about 65 airplanes of U.S. registry. The actions will take about 1 work hour per airplane, at an average labor rate of $65 per work hour. Required parts will cost about $3,766 per airplane. Based on these figures, the estimated cost of the AD for U.S. operators is $249,015, or $3,831 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-13-06 Bae Systems (Operations) Limited (Formerly British Aerospace Regional Aircraft): Amendment 39-14142. Docket No. FAA-2005-20757; Directorate Identifier 2004-NM-192-AD.

Effective Date

(a) This AD becomes effective July 26, 2005.

Affected ADs

(b) None.

Applicability

(c) This AD applies to BAE Systems (Operations) Limited Model BAe 146 and Avro 146-RJ airplanes, certificated in any category, on which BAE Systems Modification HCM30373A, or BAE Systems Modification HCM30373A and HCM36166C, are installed.

Unsafe Condition

(d) This AD was prompted by a determination that the temperature of the skin of the auxiliary power unit (APU) exhaust duct in the environmental control system (ECS) bay is higher than the certificated maximum temperature for this area. We are issuing this AD to prevent the potential for ignition of fuel or hydraulic fluid, which could leak from pipes running through the ECS bay. Ignition of these flammable fluids could result in a fire in the ECS bay.

Compliance

(e) You are responsible for having the actions required by this AD performed within the compliance times specified, unless the actions have already been done.

Modification

(f) Within 6 months after the effective date of this AD: Modify the APU exhaust duct in the ECS bay; install new, improved insulation on this APU exhaust duct; and replace the existing drain pipe with a new exhaust drain pipe blank; by doing all of the actions in the Accomplishment Instructions of BAE Systems (Operations) Limited Modification Service Bulletin SB.49-072-36244A, dated October 11, 2004. Where the Accomplishment Instructions of the service bulletin specify submitting an Advice Note to the manufacturer, this AD does not require that action.

Alternative Methods of Compliance (AMOCs)

(g) The Manager, International Branch, ANM-116, Transport Airplane Directorate, FAA, has the authority to approve AMOCs for this AD, if requested in accordance with the procedures found in 14 CFR 39.19.

Related Information

(h) British airworthiness directive G-2004-0031, dated December 22, 2004, also addresses the subject of this AD.

Material Incorporated by Reference

(i) You must use BAE Systems (Operations) Limited Modification Service Bulletin SB.49-072-36244A, dated October 11, 2004, to perform the actions that are required by this AD, unless the AD specifies otherwise. The Director of the Federal Register approves the incorporation by reference of this document in accordance with 5 U.S.C. 552(a) and 1 CFR part 51. To get copies of the service information, contact British Aerospace Regional Aircraft American Support, 13850 Mclearen Road, Herndon, Virginia 20171. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Issued in Renton, Washington, on June 9, 2005.
Michael J. Kaszycki,
Acting Manager, Transport Airplane Directorate, Aircraft Certification Service.

[FR Doc. 05-12004 Filed 6-20-05; 8:45 am]

BILLING CODE 4910-13-P